DEPARTMENT OF HEALTH AND HUMAN SERVICES

Administration for Children and Families

Submission for OMB Review; Comment Request

Title: Information Collection Items in the Head Start Performance Standards (current rule).

OMB No.: 0970-0148.

Description: The Head Start Performance Standards are regulations which establish standards for Head Start grantee and delegate agencies to follow to administer quality programs as required by law. Local programs are monitored for compliance with these standards. The information collection aspects of the Performance Standards are one part of the many actions that local agencies must take to ensure they administer quality programs. Almost all these information collection items are record keeping requirements such as recording: nutrition assessment data, family Partnership development, and regular volunteer screening for tuberculosis. These records are intended to act as a management tool for grantees to use in their daily operations. Such records are maintained by the grantees and are not information items which must be collected and then forwarded to he Federal government.

Respondents: Head Start grantee and delegate agencies

Annual Burden Estimates:

Instrument | Number of respondents | Number of responses per respondent | Average burden hours per response | Total burden hours
Head Start Performance Standards | 2,472 | 1 | 594 | 1,468,626
Estimated Total Annual Burden Hours. |  |  |  | 1,468,626

Additional Information: Copies of the proposed collection may be obtained by writing to The Administration for Children and Families, Office of Information Services, 370 L'Enfant Promenade, SW, Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW, Washington, DC 20503, Attn: Desk Officer for ACF.

Dated: June 15, 2000.
Bob Sargis,
Reports Clearance Officer.

[FR Doc. 00-15547 Filed 6-20-00; 8:45 am]

BILLING CODE 4184-01-M